DEPARTMENT OF EDUCATION

[CFDA No. 84.360]

School Dropout Prevention Program

AGENCY: Department of Education.

ACTION: Notice inviting applications for new awards for fiscal year (FY) 2002.

Purpose of Program: To support effective, sustainable, and coordinated school dropout prevention and reentry programs in high schools with annual school dropout rates greater than the State average annual school dropout rate and in the middle schools that feed students into these high schools.

Eligible Applicants: State educational agencies (SEAs) and local educational agencies (LEAs).

Applications Available: April 4, 2002.

Deadline for Transmittal of Applications: May 20, 2002.

Deadline for Intergovernmental Review: July 18, 2002.

Notification of Intent To Apply for Funding: We will be able to develop a more efficient process for reviewing grant applications if we have a better understanding of the number of entities that intend to apply for funding. Therefore, we strongly encourage each potential applicant to send, by May 6, 2002, a notification of its intent to apply for funding to the following address: dropoutprevention@ed.gov.

The notification of intent to apply for funding is optional and should not include information regarding the proposed application. Eligible applicants that fail to provide the notification may still submit an application by the application deadline.

Estimated Available Funds: $9,000,000.

Estimated Annual Range of Awards: $200,000-$500,000.

Funding of continuation awards after the initial year of funding depends on future Congressional appropriations for the program. The Administration has not requested funding for this program in its fiscal year 2003 budget proposal.

Estimated Number of Awards: 15-20.

These estimates are projections for the guidance of potential applicants. The Department is not bound by any estimates in this notice.

Project Period: Up to 36 months.

Applicable Regulations: The Education Department General Administrative Regulations (EDGAR) in 34 CFR parts 75, 77, 79, 80, 81, 82, 85, 97, 98, and 99.

SUPPLEMENTARY INFORMATION:

Description of the Program

The School Dropout Prevention program, authorized under part H of title I of the Elementary and Secondary Education Act, as amended, supports effective, sustainable, and coordinated school dropout prevention and reentry programs in high schools with annual school dropout rates greater than the State average annual school dropout rate and in the middle schools that feed students into these high schools.

Each grant recipient must implement dropout prevention and reentry strategies that are scientifically based, are sustainable, and have been widely replicated. These strategies may include—

(1) Specific strategies for targeted purposes, such as—

(a) Effective early intervention programs designed to identify at-risk students;

(b) Effective programs serving at-risk students, including racial and ethnic minorities and pregnant and parenting teenagers, designed to prevent these students from dropping out of school; and

(c) Effective programs to identify youth who have already dropped out of school and encourage them to reenter school and complete their secondary education; and

(2) Approaches such as breaking larger schools into smaller learning communities and other comprehensive reform approaches, creating alternative school programs, and developing clear linkages from schools to career skills and employment.

Applications

We strongly encourage you to submit your application to us electronically. Submission of an electronic application involves the use of the Electronic Grant Application System (e-APPLICATION, formerly e-GAPS) portion of the Grant Administration and Payment System (GAPS). However, you may submit your application in paper format if you prefer.

You can access the electronic application for the School Dropout Prevention program at: http://e-grants.ed.gov.

You may also obtain a copy of the application package from the contact person identified under FOR FURTHER INFORMATION CONTACT.

Waiver of Proposed Rulemaking

Some of the procedures in these instructions for transmitting applications differ from those EDGAR (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

FOR FURTHER INFORMATION CONTACT: Christine Jackson, Office of Elementary and Secondary Education, U.S. Department of Education, 400 Maryland Avenue, SW., Room 2W104, FOB-6, Washington, DC 20202-6254. Telephone: (202) 260-2516 or via Internet: christine.jackson@ed.gov. Individuals who use a telecommunications device for the deaf (TDD) may call the Federal Information Relay Service (FIRS) at 1-888-877-8339.

Individuals with disabilities may obtain this notice in an alternative format (e.g., Braille, large print, audiotape, or computer diskette) on request to the contact person listed in the preceding paragraph. Please note, however, that the Department is not able to reproduce in an alternative format the standard forms included in the notice.

Electronic Access to This Document

You may view this document, as well as all other Department of Education documents published in the Federal Register, in text or Adobe Portable Document Format (PDF) on the Internet at the following site: www.ed.gov/legislation/FedRegister.

To use PDF, you must have the Adobe Acrobat Reader, which is available free at this site. If you have questions about using PDF, call the U.S. Government Printing Office (GPO) at (202) 512-1530 or, (toll free, at 1-888-293-6498), or in the Washington, DC, area at (202) 512-1530.

The official version of this document is the document published in the Federal Register. Free Internet access to the official edition of the Federal Register and the Code of Federal Regulations is available on GPO Access at: http://www.access.gpo.gov/nara/index.html.

Program Authority: 20 U.S.C. 6551 et seq.

Dated: March 29, 2002.
Susan B. Neuman,
Assistant Secretary for Elementary and Secondary Education.

[FR Doc. 02-8088 Filed 4-3-02; 8:45 am]

BILLING CODE 4000-01-P